ENVIRONMENTAL PROTECTION AGENCY

40 CFR Part 52

[EPA-R09-OAR-2022-0972; FRL-10529-02-R9]

Second 10-Year Maintenance Plan for the Coso Junction PM-10 Planning Area; California

AGENCY: Environmental Protection Agency (EPA).

ACTION: Final rule.

SUMMARY: The Environmental Protection Agency (EPA) is taking final action to approve the “Coso Junction PM10 Planning Area Second 10-Year Maintenance Plan” (“Coso Junction Second Maintenance Plan” or “Plan”) as a revision to the state implementation plan (SIP) for the State of California. The Coso Junction Second Maintenance Plan includes, among other elements, a base year emissions inventory, a maintenance demonstration, and contingency provisions. The EPA is finalizing this action because the SIP revision meets the applicable statutory and regulatory requirements for such plans. The EPA is also taking final action to find the contribution of motor vehicle emissions to the area's continued attainment of the 1987 PM10 standards to be insignificant. Once this insignificance finding is finalized, the area will not have to complete a regional emissions analysis for any transportation conformity determinations necessary for the Coso Junction Planning Area (CJPA).

DATES: This rule is effective August 14, 2023.

ADDRESSES: The EPA has established a docket for this action under Docket ID No. EPA- EPA-R09-OAR-2022-0972. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Lindsay Wickersham, Planning Section (AIR-2-1), EPA Region IX, 75 Hawthorne Street, San Francisco, CA 94105, (415) 947-4192, or by email at wickersham.lindsay@epa.gov.

SUPPLEMENTARY INFORMATION: Throughout this document, “we,” “us,” and “our” refer to the EPA.

Table of Contents

I. Summary of Proposed Rule

II. Public Comments and EPA Responses

III. Air Quality Conditions Since Proposal

IV. Environmental Justice Considerations

V. Final Action

VI. Statutory and Executive Order Reviews

I. Summary of Proposed Rule

On March 30, 2023, the EPA proposed to approve the Coso Junction Second Maintenance Plan prepared by the Great Basin Unified Air Pollution Control District (GBUAPCD) and submitted by the California Air Resources Board (CARB) on October 21, 2021, as a revision to the California SIP.¹ In doing so, we proposed to find that the Coso Junction Second Maintenance Plan adequately demonstrates that the CJPA will maintain the 1987 annual national ambient air quality standards (NAAQS or “standards”) for particulate matter of ten microns or less (PM10) through the year 2030 (i.e., for more than 10 years beyond the first 10-year maintenance period), with the maintenance period ending on October 4, 2030. We also proposed to find that the Plan includes sufficient contingency provisions to promptly correct any violation of the PM10 standards that may occur. Lastly, we proposed to find that motor vehicle related PM10 emissions do not contribute significantly to the PM10 air quality problem in the CJPA based on consideration of the factors identified in § 93.109(f) of the EPA's transportation conformity regulations.²

¹ 88 FR 19034.

² 40 CFR part 93.

The EPA announced the availability of the Plan and motor vehicle emissions insignificance finding on the EPA's transportation conformity website on April 3, 2023, and requested comments by May 3, 2023. We received no comments in response to the adequacy review posting.

II. Public Comments and EPA Responses

The EPA's proposed action provided a 30-day public comment period that ended on May 1, 2023. We received no comments on our proposal during the comment period.

III. Air Quality Conditions Since Proposal

As part of our proposal, we evaluated complete, quality-assured, and certified, data available at the time (i.e., through 2021).³ These data indicated that there had been four exceedances of the PM10 NAAQS in the CJPA between 2018 and 2020. The District and CARB provided information to the EPA about the September 7, 2020 exceedance that explained that the exceedance was not within the State's control.⁴ As conveyed in the EPA's concurrence letter, we concurred that, based on the weight of evidence, the September 7, 2020 exceedance was caused by an exceptional event due to the Creek Fire in the Sierra National Forest and the SQF Complex wildfire in the Sequoia National Forest.⁵ Based on a review of air quality data during the three-year period covered by the Plan (2018-2020) and excluding the exceedance flagged by CARB and GBUAPCD and concurred with by the EPA as an exceptional event, we find that the 2020 design value for the Coso Junction PM10 nonattainment area is 1.0 and that the area maintained the PM10 standards in that year.

³ 88 FR 19034, 19036.

⁴ Email dated August 24, 2021, from Candace Clawson, CARB, to Michael Benjamin, CARB, Subject: “CARB letter to EPA GBUAPCD PM10NEE_signed, EPA Cvr Ltr—2021 2nd Maint. Plan-EE Submittal-2021073_signed and GBUAPCD Exceptional Event Demonstration September 7 2020 FINAL,” with three attachments. While submitted by CARB, the demonstrations and addendums were developed through a joint effort by CARB and the GBUAPCD.

⁵ Email dated July 12, 2022, from Anna Mebust, EPA Region IX, to Sylvia Vanderspek, CARB, Subject: “EPA Concurrence on 2020 PM10 Wildfire Exceptional Event,” with attachments, “DD_Concurrence_Letter.pdf;” “CosoJunctionWildfirePM10_ConcurrenceTSD.pdf.”

In 2021, there were three additional exceedances of the PM10 NAAQS in the area. These additional exceedances in 2021 caused the number of exceedances recorded at the air monitor averaged over three consecutive years (i.e., 2019-2021) to be greater than 1.05. However, we do not think these data contradict the EPA's finding that the State's plan provides for maintenance of the PM10 NAAQS under section 175A(b) of the Clean Air Act (CAA). The District and CARB provided information to the EPA about the six exceedances that occurred in 2019-2021 that explained that three of the exceedances were not within the State's nor District's control.⁶ The information provided indicates that the September 7, 2020, September 19, 2021, and September 27, 2021 exceedances were all caused by wildfire smoke. The EPA has reviewed the information provided by the State regarding the 2019-2021 exceedances, and we agree that this information does not call into question the EPA's proposed approval of the Coso Junction Second Maintenance Plan as providing for maintenance of the PM10 NAAQS. We note as well that the State's analysis and the EPA's evaluation are consistent with the proposed changes to the maintenance plan that the EPA is approving in this final action to evaluate data that may have been influenced by certain events in determining whether contingency provisions should be triggered.

⁶ Submitted via email on September 1, 2022, from Sylvia Vanderspek, CARB to Gwen Yoshimura, EPA Region IX, Subject: “FW: Coso Junction Initial Notification Forms for 2nd PM10 MP Contingency,” with attachments, “INI 2010-2020 Coso Junction PM10.pdf,” “Discussion of PM10 Exceedances at Coso Junction 2010 through 2021.pdf,” “INI 2021 Coso Junction PM10.pdf,” and “Coso Junction 2021 Wildfire Smoke Exceedances.pdf.”

As part of this final action, we evaluated complete, quality-assured, and certified data available for 2022.⁷ These data indicated that there had been one exceedance of the PM10 NAAQS in the CJPA in 2022.⁸ Given the EPA's agreement that the 2021 exceedances do not call into question the EPA's proposal to approve the Coso Junction Second Maintenance Plan as providing for maintenance of the NAAQS, the State is not required at this time to submit additional information and analyses for the 2022 exceedance, because such exceedance, without the 2021 exceedances, would not on its own cause a violation of the NAAQS. Upon the effective date of this final action, if additional exceedances occur in 2023 or a later year such that the number of exceedances averaged over three consecutive years is greater than 1.05, per Section 7 of the Plan, the State will be required to submit information regarding those exceedances if it wishes to request that the exceedances be excluded from the contingency trigger calculation. The EPA will review such information and will notify the State whether the contingency provisions have been triggered per the schedule outlined in the Plan.

⁷ Email dated May 1, 2023, from Fletcher Clover, EPA Region IX, to Chris Howard, GBUAPCD, Subject: “RE: Great Basin Unified APCD Ambient Air Monitoring Data Certification for 2022,” with attachments, “Great Basin 2022 AQS data certification—AMP450NC_2102387 with EPA concurrence flags.pdf” and “Great Basin 2022 AQS data certification—AMP600_2102385 with EPA concurrence flags.pdf.”

⁸ EPA Air Quality System Design Value Report, AMP480, accessed May 9, 2023 (User ID: STSAI, Report Request ID: 2104344).

IV. Environmental Justice Considerations

As described in detail in our proposal, the EPA reviewed demographic data, which provides an assessment of individual demographic groups of the populations living within the southwest portions of Inyo County.⁹ The EPA then compared the data to the corresponding data for the United States as a whole for each of the demographic groups. The results of this analysis are being provided for informational and transparency purposes.

⁹ 88 FR 19034, 19044.

This final action approves the Coso Junction Second Maintenance Plan, which provides for the continued maintenance of the PM10 NAAQS. We expect that this action will generally be neutral or contribute to reduced environmental and health impacts on all populations in the CJPA, including people of color and low-income populations. Further, there is no information in the record indicating that this action is expected to have disproportionately high or adverse human health or environmental effects on a particular group of people.

V. Final Action

For the reasons discussed in our proposed action and herein, the EPA is taking final action to approve the Coso Junction Second Maintenance Plan, submitted by CARB on October 20, 2021, as a revision to the California SIP. We are approving the maintenance demonstration and contingency provisions as meeting all of the applicable requirements for maintenance plans and related contingency provisions in CAA section 175A, and we are finalizing an insignificance finding for motor vehicle emissions in the CJPA.

VI. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, there are no areas of Indian country within the CJPA, and the State plan is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The air agency did not evaluate EJ considerations as part of its SIP submittal; the CAA and applicable implementing regulations neither prohibit nor require such an evaluation. The EPA's evaluation of environmental justice is described in the section of this document titled, “Environmental Justice Considerations.” The analysis was done for the purpose of providing additional context and information about this rulemaking to the public, not as a basis of the action. Due to the nature of the action being taken here, this action is expected to have a neutral to positive impact on the air quality of the affected area. In addition, there is no information in the record upon which this decision is based that is inconsistent with the stated goal of E.O. 12898 of achieving environmental justice for people of color, low-income populations, and Indigenous peoples.

This action is subject to the Congressional Review Act, and the EPA will submit a rule report to each House of the Congress and to the Comptroller General of the United States. This action is not a “major rule” as defined by 5 U.S.C. 804(2). Under section 307(b)(1) of the CAA, petitions for judicial review of this action must be filed in the United States Court of Appeals for the appropriate circuit by September 11, 2023. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Ammonia, Incorporation by reference, Intergovernmental relations, Nitrogen dioxide, Particulate matter, Reporting and recordkeeping requirements, Sulfur dioxide, Volatile organic compounds.

Authority: 42 U.S.C. 7401 et seq.

Dated: July 3, 2023.
Martha Guzman Aceves,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraph (c)(603) to read as follows:

§ 52.220 Identification of plan—in part.

* * * * *

(c) * * *

(604) The following plan was submitted electronically on October 21, 2021, by the Governor's designee as an attachment to a letter dated October 20, 2021.

(i) [Reserved]

(ii) Additional materials. (A) Great Basin Unified Air Pollution Control District.

(1) Coso Junction PM10 Planning Area Second 10-Year Maintenance Plan, adopted on September 23, 2021.

(2) [Reserved]

(B) [Reserved]

[FR Doc. 2023-14688 Filed 7-12-23; 8:45 am]

BILLING CODE 6560-50-P